NUCLEAR REGULATORY COMMISSION

Correction to Notice of Petitions and Director's Decisions

On April 11, 2000, (65 FR 19398), the Federal Register published notice of Petitions and Director's Decisions. On page 19398 there was a notice entitled “Power Authority of the State of New York; Facility Operating License DPR-64 Receipt of Petition for Director's Decision Under 10 CFR 2.206.” The title of this notice should have been “Consolidated Edison Company of New York, Inc.; Facility Operating License DPR-26 Receipt of Petition for Director's Decision Under 10 CFR 2.206.”

Dated at Rockville, Maryland, this 11th day of April 2000.
For the Nuclear Regulatory Commission.
John A. Zwolinski,
Director, Division of Licensing Project Management, Office of Nuclear Reactor Regulation.

[FR Doc. 00-9623 Filed 4-17-00; 8:45 am]

BILLING CODE 7590-01-P